DEPARTMENT OF COMMERCE

[I.D. 042304D]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Licensing of Private Land Remote-Sensing Space Systems.

Form Number(s): None.

OMB Approval Number: 0648-0174.

Type of Request: Regular submission.

Burden Hours: 295.

Number of Respondents: 18.

Average Hours Per Response: License application, 40 hours; amendment, 10 hours; foreign agreement notification (including investment), 2 hours; executive summary, 1 hour; notification of the demise of a system or a decision to discontinue system operations, 2 hours; notification of any operational deviation, 2 hours; submission of data collection restriction plans, 5 hours; submission of operational plans for restricting collection or dissemination of Israeli territory, 3 hours; submission of data flow diagrams, 3 hours; submission of satellite sub-systems drawings, 2 hours; submission of final imaging system specifications, 3 hours; submission of spacecraft operational information when a spacecraft becomes operational, 2 hours; notification of disposition/orbital debris change, 2 hours; notifications of planned purges of information, 2 hours; operational quarterly reports, 3 hours; annual compliance audits, 8 hours; annual operational audits, 10 hours.

Needs and Uses: NOAA has established requirements for the licensing of private operators of remote-sensing space systems. The information in applications and subsequent reports is needed to ensure compliance with the Land Remote-Sensing Policy Act of 1992 and with the national security and international obligations of the United States.

Affected Public: Business or other for-profit organizations.

Frequency: On occasion, quarterly, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: April 22, 2004.
Gwellnar Banks,
Management Analyst, Office of the Chief Information Officer.

[FR Doc. 04-9756 Filed 4-28-04; 8:45 am]

BILLING CODE 3510-22-S